DEPARTMENT OF LABOR

Employment and Training Administration

[TA-W-92,005]

CTS Corporation, Including On-Site Leased Workers From Specialized Staffing, Manpower, Aerotek, Personnel Partners, Talent Source Staffing, and Tech USA, Elkhart, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on August 31, 2016, applicable to workers of CTS Corporation, including on-site leased workers from Specialized Staffing and Manpower, Elkhart, Indiana. The workers' firm is engaged in activities related to the production of accelerator pedals and actuators for the automotive industry. The notice has not been published in the Federal Register as of yet.

At the request of the state workforce office, the Department reviewed the certification for workers of CTS Corporation.

The subject firm reports that workers leased from Aerotek, Personnel Partners, Talent Source Staffing, and Tech USA were employed on-site at the Elkhart, Indiana location of CTS Corporation. The Department has determined that these workers were sufficiently under the control of the subject firm to be considered leased workers.

Based on these findings, the Department is amending this certification to include workers leased from Aerotek, Personnel Partners, Talent Source Staffing, and Tech USA working on-site at the Elkhart, Indiana location of CTS Corporation.

The amended notice applicable to TA-W-92,005 is hereby issued as follows:

All workers of CTS Corporation, including on-site leased workers from Specialized Staffing, Manpower, Aerotek, Personnel Partners, Talent Source Staffing, and Tech USA, Elkhart, Indiana, who became totally or partially separated from employment on or after July 8, 2015, through August 31, 2018, and all workers in the group threatened with total or partial separation from employment on date of certification through two years from the date of certification, are eligible to apply for adjustment assistance under Chapter 2 of Title II of the Trade Act of 1974, as amended.

Signed in Washington, DC, this 20th day of October, 2016.
Hope D. Kinglock,
Certifying Officer, Office of Trade Adjustment Assistance.

[FR Doc. 2016-28914 Filed 12-1-16; 8:45 am]

BILLING CODE P